DEPARTMENT OF THE TREASURY

Internal Revenue Service

26 CFR Part 1

[REG-112039-03]

RIN 1545-BC35

Elimination of Forms of Distribution in Defined Contribution Plans

AGENCY: Internal Revenue Service (IRS), Treasury.

ACTION: Correction to notice of proposed rulemaking.

SUMMARY: This document contains a correction to proposed regulations that was published in the Federal Register on July 8, 2003 (68 FR 40581). This regulation modifies the circumstances under which certain forms of distribution previously available are permitted to be eliminated from qualified defined contribution plans.

FOR FURTHER INFORMATION CONTACT: Vernon S. Carter, (202) 622-6060 (not a toll free number).

SUPPLEMENTARY INFORMATION:

Background

The proposed regulations that are the subject of this correction are under section 411 of the Internal Revenue Code.

Need for Correction

As published, the notice of proposed rulemaking contains errors that may prove to be misleading and is in need of clarification.

Correction of Publication

Accordingly, the publication of the notice of proposed rulemaking (REG-112039-03), which were the subject of FR Doc. 03-17089, is corrected as follows:

On page 40581, column 3, in the preamble under the caption SUMMARY, lines nine through thirteen, the language “This document also provides notice of a public hearing on these proposed regulations.” is removed.

Cynthia E. Grigsby,
Acting Chief, Publications and Regulations Branch, Legal Processing Division, Associate Chief Counsel (Procedures and Administration).

[FR Doc. 03-23981 Filed 9-18-03; 8:45 am]

BILLING CODE 4830-01-P